DEPARTMENT OF THE INTERIOR

Fish and Wildlife Service

[FWS-R1-ES-2011-N092; 10120-1113-0000-C2]

Endangered and Threatened Wildlife and Plants; Amendment to the Draft Recovery Plan for the Columbia Basin Distinct Population Segment of the Pygmy Rabbit

AGENCY: Fish and Wildlife Service, Interior.

ACTION: Notice of availability; request for comment.

SUMMARY: We, the U.S. Fish and Wildlife Service (Service), announce the availability of an amendment to the Draft Recovery Plan for the Columbia Basin Distinct Population Segment of the Pygmy Rabbit (Brachylagus idahoensis) for public review and comment. This amendment updates the recovery strategies and objectives that were developed in the 2007 Draft Recovery Plan, based on new information about genetics, disease risk, and habitat associations of the species.

DATES: We must receive any comments on the amendment to the draft recovery plan on or before August 29, 2011.

ADDRESSES: An electronic copy of the draft recovery plan amendment is available at http://www.fws.gov/endangered/species/recovery-plans.html and http://www.fws.gov/pacific/ecoservices/endangered/recovery/plans.html. Copies of the draft recovery plan amendment are also available by request from the U.S. Fish and Wildlife Service, Eastern Washington Field Office, 11103 E. Montgomery Drive, Spokane Valley, WA 99206 (telephone: 509-891-6839). Written comments and materials regarding this draft recovery plan amendment should be addressed to the above address.

FOR FURTHER INFORMATION CONTACT: Chris Warren, Fish and Wildlife Biologist, by writing to the above address, by calling 509-893-8020, or by electronic mail at: chris_warren@fws.gov.

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act.

The Act requires the development of recovery plans for listed species unless such a plan would not promote the conservation of a particular species. Recovery plans help guide conservation efforts by describing actions considered necessary for the recovery of the species, establishing criteria for downlisting or delisting listed species, and estimating time and cost for implementing the measures needed for recovery. Section 4(f) of the Act requires that public notice and an opportunity for public review and comment be provided during recovery plan development. A draft recovery plan for the Columbia Basin pygmy rabbit was made available for public comment from September 7 to November 6, 2007 (72 FR 51461). The recovery plan has not yet been finalized; because new scientific information has substantially changed our recommended recovery strategy, we are now publishing this amendment to the draft recovery plan for additional public comment before we prepare a final recovery plan.

We will consider all comments we receive during the public comment period. Substantive comments may or may not result in changes to the recovery plan; comments regarding recovery plan implementation will be forwarded to appropriate Federal or other entities so that they can take them into account during the course of implementing recovery actions. Responses to individual commenters will not be provided, but we will provide a summary of how we addressed substantive comments in an appendix to the final recovery plan.

Pygmy rabbits are typically found in habitat types that include tall, dense stands of sagebrush (Artemisia spp.), on which they are highly dependent for both food and shelter throughout the year. Historically, pygmy rabbits were found throughout the semi-arid sagebrush steppe biome of the Great Basin and adjacent intermountain regions of the western United States, including portions of Oregon, California, Nevada, Utah, Idaho, Montana, Wyoming, and Washington. The population within the Columbia Basin of central Washington is disjunct from the remainder of the species' range. Museum specimens and sighting records indicate that during the first half of the 20th century, the Columbia Basin pygmy rabbit likely occurred in portions of six Washington counties: Douglas, Grant, Lincoln, Adams, Franklin, and Benton. This range declined due to large-scale loss and fragmentation of native shrub-steppe habitats, primarily for agricultural development, and by the late 1980s it was known only from southern Douglas County. We listed the Columbia Basin distinct population segment of the pygmy rabbit under emergency provisions of the Act on November 30, 2001 (66 FR 59734), and fully listed it as endangered on March 5, 2003 (68 FR 10388).

The last known wild population of the Columbia Basin pygmy rabbit was extirpated in 2004, and an experimental release of 20 captive individuals in 2007 failed. The remaining captive population is derived from controlled intercross breeding between Columbia Basin individuals and pygmy rabbits of the same taxonomic classification from Idaho, and currently comprises 92 individuals averaging 65 percent Columbia Basin ancestry. The condition of the captive population has deteriorated in recent years due to poor reproductive success, soil-borne diseases, habituation to captive conditions, and genetic bottlenecks. The prospects for long-term viability of the population in captivity are considered poor. The recovery plan amendment recommends that, to effectively reintroduce captive rabbits to the wild, 100 to 200 rabbits should be released annually for up to 3 years; this program will include supplementation of the captive pygmy rabbits with wild pygmy rabbits translocated from outside of the Columbia Basin. The amendment also recommends surveys of suitable habitat within the Columbia Basin to locate undiscovered populations of wild Columbia Basin pygmy rabbits.

Public Comments Solicited

We solicit written comments on the amendment to the draft recovery plan described in this notice. All comments received by the date specified above will be considered in development of a final recovery plan for the Columbia Basin pygmy rabbit.

Authority: The authority for this action is section 4(f) of the Endangered Species Act, 16 U.S.C. 1533(f).

Dated: June 8, 2011.
Theresa E. Rabot,
Acting Regional Director, Region 1, U.S. Fish and Wildlife Service.

[FR Doc. 2011-16379 Filed 6-28-11; 8:45 am]

BILLING CODE 4310-55-P